DEPARTMENT OF JUSTICE

Office of Justice Programs

[OMB Number 1121-0166]

Agency Information Collection Activities: Extension of a Currently Approved Collection: Comments Requested

ACTION: 30-Day Notice of Information Collection Under Review: Extension of a currently approved collection. Bureau of Justice Assistance Application Form: Public Safety Officers Disability Benefits.

The Department of Justice (DOJ), Office of Justice Programs (OJP) has submitted the following information collection request to the Office of Management and Budget (OMB) for review and approval in accordance with the Paperwork Reduction Act of 1995. The proposed collection information is published to obtain comments from the public and affected agencies. This proposed information collection was previously published in the Federal Register Volume 72, Number 32, pages 7677-7678 on February 16, 2007, allowing for a 60 day comment period. The purpose of this notice is to allow for an additional 30 days for public comment until May 14, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Comments may also be submitted to M. Pressley, Bureau of Justice Assistance, Office of Justice Programs, U.S. Department of Justice, 810 7th Street, NW., Washington, DC 20531 via facsimile to (202) 305-1367.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Public Safety Officers Disability Benefits.

(3) Agency form number, if any, and the applicable component of the Department of Justice sponsoring the collection: OJP FORM 3650/7 Public Safety Officers Disability Benefits.

(4) Affected public who will be asked or required to respond, as well as a brief abstract:

Primary: Dependents of public safety officers who were killed or permanently and totally disabled in the line of duty.

Abstract: The Public Safety Officers' Benefits Act of 1976 (PSOB), 42 U.S.C. 3796, authorizes the Bureau of Justice Assistance, Office of Justice Programs to pay a benefit to claimant public safety officers found to have been permanently and totally disabled as the direct result of a catastrophic line of duty injury sustained on or after November 29, 1990.

Others: None.

(5) An estimate of the total number of respondents and the amount of time needed for an average respondent to respond is as follows: It is estimated that no more than 75 respondents will apply a year. Each application takes approximately 120 minutes to complete.

(6) An estimate of the total public burden (in hours) associated with the collection: Total Annual Reporting Burden: 75 × 120 minutes per application = 9,000 minutes/by 60 minutes per hour = 150 hours.

If additional information is required, please contact, Lynn Bryant, Clearance Officer, United States Department of Justice, Justice Management Division, Policy and Planning Staff, Patrick Henry Building, Suite 1600, 601 D Street, NW., Washington, DC 20530.

Dated: April 10, 2007.
Lynn Bryant,
Department Clearance Officer, PRA, United States Department of Justice.

[FR Doc. E7-7083 Filed 4-12-07; 8:45 am]

BILLING CODE 4410-18-P